DEPARTMENT OF HEALTH AND HUMAN SERVICES

National Institutes of Health

Center for Scientific Review; Amended Notice of Meeting

Notice is hereby given of a change in the meeting of the Center for Scientific Review Special Emphasis Panel, Genetic Epidemiology, October 29, 2013, 09:30 a.m. to October 29, 2013, 10:30 a.m., Wingate by Wyndham, 105 State Street, York, PA 17404 which was published in the Federal Register on October 03, 2013, 78 FR 192 Pgs. 61376-61377.

The meeting will start on December 6, 2013 at 9:30 a.m. and end on December 6, 2013 at 11:00 a.m. The meeting location remains the same. The meeting is closed to the public.

Dated: October 25, 2012.
Anna Snouffer,
Deputy Director, Office of Federal Advisory Committee Policy.

[FR Doc. 2013-25887 Filed 10-30-13; 8:45 am]

BILLING CODE 4140-01-P